ENVIRONMENTAL PROTECTION AGENCY

[EPA-HQ-OGC-2021-0314; FRL-10023-24-OGC]

Proposed Consent Decree, Clean Air Act Citizen Suit

AGENCY: Environmental Protection Agency (EPA).

ACTION: Notice of proposed consent decree; request for public comment.

SUMMARY: In accordance with the Clean Air Act, as amended (CAA or the Act), notice is given of a proposed consent decree in Center for Biological Diversity, et al. v. Regan, No. 3:20-cv-05436-EMC (N.D. Cal.). On August 6, 2020, Plaintiffs the Center for Biological Diversity, the Center for Environmental Health, and the Sierra Club (collectively, Plaintiffs) filed a complaint in the United States District Court for the Northern District of California, San Francisco Division. On October 29, 2020, Plaintiffs filed an amended complaint. Plaintiffs alleged that the Environmental Protection Agency (EPA or the Agency) failed to perform certain non-discretionary duties in accordance with the Act to: make timely findings that certain states failed to timely submit required plan submissions for areas designated as nonattainment for the 2010 sulfur dioxide (SO2) National Ambient Air Quality Standards (NAAQS); timely respond to a state implementation plan (SIP) submittal from the State of Illinois for the Alton Township 2010 SO2 NAAQS nonattainment area; and make timely determinations whether certain areas designated as nonattainment for the 2010 SO2 NAAQS attained the standard by the attainment date. The proposed consent decree would establish deadlines for EPA to undertake certain actions.

DATES: Written comments on the proposed consent decree must be received by June 2, 2021.

ADDRESSES: Submit your comments, identified by Docket ID No. EPA-HQ-OGC-2021-0314, online at https://www.regulations.gov (EPA's preferred method). Follow the online instructions for submitting comments.

Instructions: All submissions received must include the Docket ID number for this action. Comments received may be posted without change to https://www.regulations.gov, including any personal information provided. For detailed instructions on sending comments and additional information on the rulemaking process, see the “Additional Information about Commenting on the Proposed Consent Decree” heading under the SUPPLEMENTARY INFORMATION section of this document. Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov, as there may be a delay in processing mail and faxes. Hand-deliveries and couriers may be received by scheduled appointment only. For further information on EPA Docket Center services and the current status, please visit us online at https://www.epa.gov/dockets.

EPA continues to carefully and continuously monitor information from the CDC, local area health departments, and our federal partners so that we can respond rapidly as conditions change regarding COVID-19.

FOR FURTHER INFORMATION CONTACT: Emily Seidman, Air and Radiation Law Office (7426Y), Office of General Counsel, U.S. Environmental Protection Agency, 1200 Pennsylvania Ave., NW, Washington, DC 20460; telephone (202) 564-0906; email address seidman.emily@epa.gov.

SUPPLEMENTARY INFORMATION:

I. Obtaining a Copy of the Proposed Consent Decree

The official public docket for this action (identified by Docket ID No. EPA-HQ-OGC-2021-0314) contains a copy of the proposed consent decree.

The electronic version of the public docket for this action contains a copy of the proposed consent decree and is available through https://www.regulations.gov. You may use https://www.regulations.gov to submit or view public comments, access the index listing of the contents of the official public docket, and access those documents in the public docket that are available electronically. Once in the system, key in the appropriate docket identification number then select “search.”

II. Additional Information About the Proposed Consent Decree

The proposed consent decree would establish deadlines for EPA to take action pursuant to the CAA. First, the proposed consent decree would establish a deadline for EPA to take action pursuant to CAA section 110(k) on a SIP submission by the State of Illinois for Alton Township, for the Alton Township portion of the Metropolitan St. Louis Interstate Air Quality Control Region nonattainment area for the 2010 SO2 NAAQS. The proposed consent decree would require EPA to take action on the SIP submission by no later than March 1, 2022.

Second, the proposed consent decree would establish deadlines for EPA to take action pursuant to CAA section 179(c)(1) to determine whether the following nonattainment areas for the 2010 SO2 NAAQS attained the standard by the attainment date: Hayden (parts of Gila County and Pinal County, Arizona; Miami (part of Gila County), Arizona; Muscatine (part of Muscatine County), Iowa; St. Bernard Parish, Louisiana; Detroit (part of Wayne County), Michigan; Jackson County (part), Missouri; Sullivan County (part), Tennessee; and Rhinelander (part of Oneida County), Wisconsin. The proposed consent decree would require EPA to make a determination for the areas in Arizona, Michigan and Wisconsin by January 31, 2022 and make a determination for the areas in Iowa, Louisiana, Missouri and Tennessee by March 31, 2022.

While the amended complaint also identified Southwest Indiana (parts of Daviess County and Pike County), Indiana as an area for which EPA was required to make a determination of whether the area attained the 2010 SO2 NAAQS by the attainment date, on February 22, 2021, EPA signed a final rule redesignating the Southwest Indiana nonattainment area to attainment for the 2010 SO2 NAAQS. Final Rule, 86 FR 12107-12108 (March 2, 2021), mooting the claim as to Southwest Indiana.

Third, while the amended complaint included claims regarding EPA's failure to make a finding of failure to submit a nonattainment SIP for certain nonattainment areas for the 2010 SO2 NAAQS pursuant to CAA section 110(k)(1)(B), on October 8, 2020, the EPA Principal Deputy Assistant Administrator for the Office of Air and Radiation signed findings of failure to submit SIPs required for attainment of the 2010 SO2 NAAQS for the areas identified in the amended complaint, and the findings were published in the Federal Register on November 3, 2020, Final Rule, 85 FR 69504, 69506-69508 (November 3, 2020), mooting those claims.

In accordance with section 113(g) of the CAA, for a period of thirty (30) days following the date of publication of this document, the Agency will accept written comments relating to the proposed consent decree. EPA or the Department of Justice may withdraw or withhold consent to the proposed consent decree if the comments disclose facts or considerations that indicate that such consent is inappropriate, improper, inadequate, or inconsistent with the requirements of the Act.

III. Additional Information About Commenting on the Proposed Consent Decree

Submit your comments, identified by Docket ID No. EPA-HQ-OGC-2021-0314, via https://www.regulations.gov. Once submitted, comments cannot be edited or removed from this docket. EPA may publish any comment received to its public docket. Do not submit to EPA's docket at https://www.regulations.gov any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit https://www.epa.gov/dockets/commenting-epa-dockets. For additional information about submitting information identified as CBI, please contact the person listed in the FOR FURTHER INFORMATION CONTACT section of this document. Note that written comments containing CBI and submitted by mail may be delayed and deliveries or couriers will be received by scheduled appointment only.

If you submit an electronic comment, EPA recommends that you include your name, mailing address, and an email address or other contact information in the body of your comment. This ensures that you can be identified as the submitter of the comment and allows EPA to contact you in case EPA cannot read your comment due to technical difficulties or needs further information on the substance of your comment. Any identifying or contact information provided in the body of a comment will be included as part of the comment that is placed in the official public docket and made available in EPA's electronic public docket. If EPA cannot read your comment due to technical difficulties and cannot contact you for clarification, EPA may not be able to consider your comment.

Use of the https://www.regulations.gov website to submit comments to EPA electronically is EPA's preferred method for receiving comments. The electronic public docket system is an “anonymous access” system, which means EPA will not know your identity, email address, or other contact information unless you provide it in the body of your comment.

Please ensure that your comments are submitted within the specified comment period. Comments received after the close of the comment period will be marked “late.” EPA is not required to consider these late comments.

Gautam Srinivasan,
Associate General Counsel.

[FR Doc. 2021-09245 Filed 4-30-21; 8:45 am]

BILLING CODE 6560-50-P